DEPARTMENT OF COMMERCE

National Oceanic and Atmospheric Administration

[I.D. 083004C]

Fisheries of the Caribbean, Gulf of Mexico and South Atlantic; Fishery Management Plan for the Reef Fish Resources of the Gulf of Mexico; Amendment 24

AGENCY: National Marine Fisheries Service (NMFS), National Oceanic and Atmospheric Administration (NOAA), Commerce.

ACTION: Notice announcing the preparation of an environmental assessment.

SUMMARY: NMFS, in cooperation with the Gulf of Mexico Fishery Management Council (Council), is preparing an environmental assessment (EA) for proposed Amendment 24 to the Fishery Management Plan for Reef Fish Resources of the Gulf of Mexico (Reef Fish FMP). A notice published February 13, 2004, indicated that Amendment 24 would be supported by a Draft Supplemental Environmental Impact Statement (DSEIS). This notice is intended to inform the public of the change in the environmental review document supporting Amendment 24.

FOR FURTHER INFORMATION CONTACT: Rick Leard, phone: 813-228-2815 ext. 228, fax: 813-225-7015, e-mail: Rick.Leard@gulfcouncil.org; or Phil Steele, phone: 727-570-5305, fax: 727-570-5583, e-mail: phil.steele@noaa.gov.

SUPPLEMENTARY INFORMATION: NMFS, in cooperation with the Council, is preparing an EA for proposed Amendment 24 to the Reef Fish FMP. The EA will examine alternatives related to the commercial vessel reef fish permit moratorium, which is scheduled to expire on December 31, 2005. Specifically, Amendment 24 includes alternatives that would: allow the moratorium to expire, extend the existing moratorium for a designated time frame, or extend the existing moratorium indefinitely.

On February 13, 2004, NMFS and the Council published a Notice of Intent in the Federal Register to prepare a DSEIS in association with Amendment 24 (69 FR 7187). However, the preliminary environmental review of Amendment 24 indicated that it would not likely have a significant impact on the quality of the human environment. Consequently, NMFS and the Council are preparing an EA, rather than proceeding directly with the development of a SEIS. This notice is intended to inform the public of this change.

If the EA results in a Finding of No Significant Impact (FONSI), the EA and FONSI will be the final environmental documents required by the National Environmental Policy Act. If the EA reveals that significant environmental impacts may be reasonably expected to result from the proposed actions, NMFS and the Council will develop a DSEIS to further evaluate those impacts.

Authority: 16 U.S.C. 1801 et seq.

Dated: August 30, 2004.
Alan D. Risenhoover,
Acting Director, Office of Sustainable Fisheries, National Marine Fisheries Service.

[FR Doc. 04-20158 Filed 9-2-04; 8:45 am]

BILLING CODE 3510-22-S